DEPARTMENT OF ENERGY

Federal Energy Regulatory Commission

[Docket No. CP08-460-000]

Rockies Express Pipeline LLC; Notice of Expedited Comment Date and Petition of the Indicated Shippers for Immediate Injunctive Relief and an Expedited Technical Conference

August 15, 2008.

Take notice that on August 13, 2008, the Indicated Shippers (ConocoPhillips Company, Shell Energy North America (US), L.P., and Yates Petroleum Corporation) filed a petition for immediate injunctive relief and an expedited technical conference. The Indicated Shippers request the Commission to enjoin Rockies Express Pipeline LLC from engaging in hydrostatic testing on a portion of its pipeline beginning September 3, 2008, and anticipated to end September 26, 2008.

The petition is on file with the Commission and open for public inspection. This petition is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any person desiring to intervene in this proceeding or to be heard in response to the petition must file in accordance with the Commission's Rules of Practice and Procedure by the date designated below. The Commission strongly encourages electronic filings of comments, protests, and interventions via the Internet in lieu of paper. See 18 CFR 385.2001(a)(1)(iii) and the instructions on the Commission's Web site (http://www.ferc.gov) under the “e-Filing” link.

Comment Date: August 20, 2008.

Kimberly D. Bose,
Secretary.

[FR Doc. E8-20211 Filed 8-29-08; 8:45 am]

BILLING CODE 6717-01-P